Title 3—

The President

Memorandum of October 25, 2018

Developing a Sustainable Spectrum Strategy for America's Future

Memorandum for the Heads of Executive Departments and Agencies

By the authority vested in me as President by the Constitution and the laws of the United States of America, it is hereby ordered as follows:

Section 1. Policy. It is the policy of the United States to use radiofrequency spectrum (spectrum) as efficiently and effectively as possible to help meet our economic, national security, science, safety, and other Federal mission goals now and in the future. To best achieve this policy, the Nation requires a balanced, forward-looking, flexible, and sustainable approach to spectrum management.

The growth in the availability of mobile wireless broadband connectivity over the past decade has reshaped the American experience—the way Americans work, learn, shop, run businesses, transport their families and goods across the Nation, farm, conduct financial transactions, consume entertainment, deliver and receive public safety services, and interact with one another. In the growing digital economy, wireless technologies expand opportunities to increase economic output of rural communities and connect them with urban markets, and offer safety benefits that save lives, prevent injuries, and reduce the cost of transportation incidents. American companies and institutions rely heavily on high-speed wireless connections, with increasing demands on both speed and capacity. Wireless technologies are helping to bring broadband to rural, unserved, and underserved parts of America. Spectrum-dependent systems also are indispensable to the performance of many important United States Government missions. And as a Nation, our dependence on these airwaves is likely to continue to grow.

As the National Security Strategy of 2017 made clear, access to spectrum is a critical component of the technological capabilities that enable economic activity and protect national security. Wireless communications and associated data applications establish a foundation for high-wage jobs and national prosperity. While American industry continues to extract greater and greater value from spectrum, each technological leap also increases demands on its usage. Those demands have never been greater than today, with the advent of autonomous vehicles and precision agriculture, the expansion of commercial space operations, and the burgeoning Internet of Things signaling a nearly insatiable demand for spectrum access. Moreover, it is imperative that America be first in fifth-generation (5G) wireless technologies—wireless technologies capable of meeting the high-capacity, low-latency, and high-speed requirements that can unleash innovation broadly across diverse sectors of the economy and the public sector. Flexible, predictable spectrum access by the United States Government will help ensure that Federal users can meet current and future mission requirements for a broad range of both communications- and non-communications-based systems.

The Nation can and will ensure security and safety through modern technology. America's national security depends on technological excellence and the United States Government must continue to have access to the spectrum resources needed to serve the national interest, from protecting the homeland and managing the national airspace, to forecasting severe weather and exploring the frontiers of space. Technological innovation in spectrum usage, moreover, occurs in both the private and public sectors. Federal agencies must thoughtfully consider whether and how their spectrum-dependent mission needs might be met more efficiently and effectively, including through new technology and ingenuity. The United States Government shall continue to look for additional opportunities to share spectrum among Federal and non-Federal entities. The United States Government shall also continue to encourage investment and adoption by Federal agencies of commercial, dual-use, or other advanced technologies that meet mission requirements, including 5G technologies. In doing so, we will take appropriate measures to sustain the radiofrequency environment in which critical United States infrastructure and space systems operate.

Sec. 2. Advancing the National Spectrum Strategy. Within 180 days of the date of this memorandum, and concurrent with development of the National Spectrum Strategy referred to in section 4 of this memorandum:

(a) Executive departments and agencies (agencies) shall report to the Secretary of Commerce (Secretary), working through the National Telecommunications and Information Administration (NTIA), on their anticipated future spectrum requirements for a time period and in a format specified by the Secretary. Additionally, agencies shall initiate a review of their current frequency assignments and quantification of their spectrum usage in accordance with guidance to be provided by the Secretary. Reporting of information under this section shall be subject to existing safeguards protecting classified, sensitive, and proprietary data. The Secretary may release publicly a summary of information provided by agencies, to the extent consistent with applicable law.

(b) The Director of the Office of Science and Technology Policy (OSTP), or the Director's designee, shall submit a report to the President on emerging technologies and their expected impact on non-Federal spectrum demand.

(c) The Director of OSTP, or the Director's designee, shall submit a report to the President on recommendations for research and development priorities that advance spectrum access and efficiency.

Sec. 3. Within 180 days of the date of this memorandum, and annually thereafter, the Secretary, working through the NTIA, and in coordination with the Office of Management and Budget (OMB), OSTP, and the Federal Communications Commission (FCC), shall submit to the President, through the Director of the National Economic Council and the Assistant to the President for National Security Affairs, a report (to be made public to the extent practicable and consistent with applicable law) on the status of existing efforts and planned near- to mid-term spectrum repurposing initiatives.

Sec. 4. Within 270 days of the date of this memorandum, the Secretary, working through the NTIA, and in consultation with OMB, OSTP, and the FCC, and other Federal entities, as appropriate, shall submit to the President, through the Director of the National Economic Council and the Assistant to the President for National Security Affairs, a long-term National Spectrum Strategy that includes legislative, regulatory, or other policy recommendations to:

(a) increase spectrum access for all users, including on a shared basis, through transparency of spectrum use and improved cooperation and collaboration between Federal and non-Federal spectrum stakeholders;

(b) create flexible models for spectrum management, including standards, incentives, and enforcement mechanisms that promote efficient and effective spectrum use, including flexible-use spectrum licenses, while accounting for critical safety and security concerns;

(c) use ongoing research, development, testing, and evaluation to develop advanced technologies, innovative spectrum-utilization methods, and spectrum-sharing tools and techniques that increase spectrum access, efficiency, and effectiveness;

(d) build a secure, automated capability to facilitate assessments of spectrum use and expedite coordination of shared access among Federal and non-Federal spectrum stakeholders; and

(e) improve the global competitiveness of United States terrestrial and space-related industries and augment the mission capabilities of Federal entities through spectrum policies, domestic regulations, and leadership in international forums.

Sec. 5. Spectrum Strategy Task Force. The Chief Technology Officer and the Director of the National Economic Council, or their designees, shall co-chair a Spectrum Strategy Task Force that shall include representatives from OMB, OSTP, the National Security Council, the National Space Council, and the Council of Economic Advisers. The Spectrum Strategy Task Force shall work with the Secretary and the NTIA in coordinating implementation of this memorandum. In carrying out its coordination functions, the Spectrum Strategy Task Force shall consult with the FCC.

Sec. 6. General Provisions. (a) Nothing in this memorandum shall be construed to impair or otherwise affect:

(i) the authority granted by law to an executive department or agency, or the head thereof; or

(ii) the functions of the Director of OMB relating to budgetary, administrative, or legislative proposals.

(b) Nothing in this memorandum shall be construed to require the disclosure of classified information, law enforcement sensitive information, proprietary information, or other information that must be protected as required by law or in the interests of national security or public safety.

(c) This memorandum shall be implemented consistent with applicable law and subject to the availability of appropriations.

(d) This memorandum is not intended to, and does not, create any right or benefit, substantive or procedural, enforceable at law or in equity by any party against the United States, its departments, agencies, or entities, its officers, employees, or agents, or any other person.

(e) The Presidential Memoranda of June 28, 2010 (Unleashing the Wireless Broadband Revolution) and June 14, 2013 (Expanding America's Leadership in Wireless Innovation) are hereby revoked.

(f) The Secretary is authorized and directed to publish this memorandum in the Federal Register.

THE WHITE HOUSE,

Washington, October 25, 2018

[FR Doc. 2018-23839

Filed 10-29-18; 8:45 am]

Billing code 3510-07-P